DEPARTMENT OF THE INTERIOR

Bureau of Indian Affairs

Final Determination to Acknowledge the Chinook Indian Tribe/Chinook Nation (Formerly: Chinook Indian Tribe, Inc.)

AGENCY: Bureau of Indian Affairs, Interior.

ACTION: Notice of Final Determination.

SUMMARY: This notice is published in the exercise of authority delegated by the Secretary of the Interior to the Assistant Secretary—Indian Affairs (Assistant Secretary) by 209 DM 8.

Pursuant to 25 CFR 83.10(m), notice is hereby given that the Assistant Secretary acknowledges that the Chinook Indian Tribe/Chinook Nation, hereafter referred to as CIT/CN, exists as an Indian tribe within the meaning of federal law. This notice is based on the Assistant Secretary's determination that the group satisfies all seven criteria set forth in 25 CFR 83.7.

DATES: This determination is final and is effective 90 days from publication of the final determination, pursuant to 25 CFR 83.10(l)(4), unless a request for reconsideration is filed with the Interior Board of Indian Appeals pursuant to 25 CFR 83.11.

FOR FURTHER INFORMATION CONTACT: Office of the Assistant Secretary— Indian Affairs, (202) 208-7163.

SUPPLEMENTARY INFORMATION: The Assistant Secretary's proposed finding (PF) against acknowledgment of CIT/CN was published in the Federal Register on August 22, 1997. Notice, Proposed Finding Against Federal Acknowledgment of the Chinook Indian Tribe, 62 FR 44714. CIT/CN reconsidered its previous decision to proceed under the 1978 regulations and in February 1995 asked if the Bureau of Indian Affairs (BIA) would allow the CIT/CN to have its petition evaluated under the 1994 regulations. However, before the BIA responded to this request, the CIT/CN attorney informed the Branch of Acknowledgment and Research (BAR) that the CIT/CN had decided to continue under the 1978 regulations. Therefore, the PF was conducted under the 1978 regulations. On December 31, 1997, the CIT/CN asked for “an opinion of whether or not the BAR would allow the Chinook Indian Tribe's petition for Federal acknowledgment to proceed under the “New Regulations” of 1994.” The BIA considered this request, but advised, by a letter dated March 13, 1998, that it could not evaluate the CIT/CN final determination evaluation under the 1994 revised regulations because (1) the petitioner had twice affirmed that it wished to proceed under the 1978 regulations, (2) an evaluation under either set of regulations would ultimately produce the same results, and (3) a change [at that late date, which was after the publication of the PF] would neither reduce the research burden on the Government's researchers nor provide benefits for the administrative process of the petition (BIA 3/13/1998). The AS-IA upheld this position in May 1998 (AS-IA 5/29/1998). The AS-IA now concludes that he erred in upholding BIA's refusal to allow the petitioner to proceed under the 1994 regulations. The AS-IA further concludes that, while the petitioner meets the seven criteria throughout the period from first contact to the present, as an alternative basis for recognition, the petitioner has demonstrated prior federal acknowledgment in the form of a 1925 Act of Congress, and meets the seven criteria for the period from 1925 to the present.

In a letter dated December 17, 1997, the BIA granted the petitioner's request for an extension to the comment period to June 15, 1998. In the absence of specific provisions in the 1978 regulations, the time frames and procedures in the 1994 regulations were used to provide an appropriate guide to extend the comment period. The BIA granted the petitioner a final 45-day extension to respond to the PF, after the CIT/CN had shown good cause, thus bringing the closing date for comments to the PF to July 30, 1998.

The BIA received third party comments from CIT/CN member Linda C. Amelia on July 22, 1998, and from the Quinault Indian Nation on July 28, 1998. CIT/CN member Edna Miller, and her husband Vince Miller, submitted a number of comments between March 25, 1998, and April 10, 1998. The BIA also received some other letters which supported the CIT/CN petition or repeated Chinook family histories, but these letters were not substantive in nature, and did not address the criteria. The petitioner submitted its response to the PF on July 30, 1998.

The AS-IA makes this final determination based on the documentary and interview evidence which formed the basis for the PF not to acknowledge the CIT/CN, and an analysis of the information and argument received in response to the PF from third party comments on the PF and of the CIT/CN's response to the PF. The AS-IA reached additional factual conclusions after a review and analysis of the existing record in light of the additional evidence.

A review of the information submitted by the CIT/CN and the third parties, as well as those in the PF, establishes that the petitioner has satisfied the criteria under the 1978 regulations for recognition. In addition, the AS-IA concludes that CIT/CN was acknowledged in 1925 and meets the requirements of the 1994 regulations from 1925 forward.

As stated in the Final Notice of the 1994 regulations, these “new” regulations “still maintain the same requirements regarding the character of the petitioner,” and “maintain the essential requirement that to be acknowledged a petitioner must be tribal in character and demonstrate historical continuity of tribal existence. Thus, petitioners that were not recognized under the previous regulations would not be recognized by these revised regulations.” Final Rule, Procedures for Establishing That an American Indian Group Exists as an Indian Tribe, 59 FR 9280, at 9282 (Feb. 25, 1994). The 1994 regulations do, however, reduce the burden of production on petitioners that demonstrate prior recognition by requiring that the petitioner demonstrate historical continuity only for the period from the time of previous acknowledgment to the present. CIT/CN meets the criteria under both the 1978 and 1994 regulations.

Pursuant to 25 CFR 83.10(l)(1), the Assistant Secretary has considered additional data obtained through research to evaluate and supplement the record, and arrange the previously existing data in a suitable context giving due consideration to previous acknowledgment of petitioner.

Criterion (a)

In the PF, the AS-IA found that CIT/CN had been identified as an American Indian tribe on a substantially continuous basis from 1792 to 1855. Thereafter, the record was spotty until 1951, when the tribe began to pursue its claim before the Indian Claims Commission. The AS-IA now finds adequate evidence that the tribe was identified as American Indian on a substantially continuous basis from 1855 to 1951. Specifically, the AS-IA finds that the Executive Order of 1873, Exhibit 1061, Exhibit 854, Exhibit K, Exhibit 1039, and Exhibit J strongly suggest the ongoing identification of a discrete group of Chinook Indians from 1855 to 1907. This group identification is confirmed by the implementation of the 1911 Act of Congress authorizing the Secretary to provide allotments on the Quinault Reservation to “members” of certain vaguely-referenced tribes. Ancestors of CIT/CN were among the Quinault Reservation allottees, indicating that both Congress and the Interior Department regarded the Chinook as a “tribe” having “members” as of 1911. This federal identification of a Chinook Tribe overcomes the absence of conclusive documentary evidence for the period. It also provides context for and increases the significance of the evidence listed above in support of the finding of substantially continuous identification.

CIT/CN continued to be identified by the federal government thereafter. The most definitive are the two express statutory identifications of the Chinook Tribe, one in 1912, and the other in 1925. Members of the Chinook Tribe received services from the Indian Service throughout the 19th century. See H. Doc. No. 517, 60th Cong., 1st Sess. 6-10 (1908). As a result of persistent advocacy by the Chinook and other tribes whose treaties had not been ratified, the Congress provided in the Fiscal Year 1913 appropriation act “that there be paid to the Lower Band of Chinook Indians of Washington the sum of twenty thousand dollars, to be apportioned among those now living and the lineal descendants of those who may be dead, by the Secretary of the Interior, as their respective rights may appear * * *.” Act of August 12, 1912, ch. 388, section 19, 62 Stat. 535.

This appropriation grant was made on account of the fact that “the Lower Band of Chinooks ceded an extensive country north of the Columbia River and were to be paid $ 20,000 and given certain rights and privileges on the ceded lands' in the unratified Point Tansey Treaty; “the Government thereafter, and while they were pending before the Senate, appropriated the lands ceded by the Indians, the treaties or agreements should be considered and treated by Congress as having the force and effect of a ratified treaty.” S. Rep. No. 503, 62nd Cong., 2d Sess. 2, 3 (1912). In other words, the 1912 statute was a constructive ratification of the Point Tansey Treaty, but passed statutorily by both houses of Congress. Partly as a result of this statute, the Department enrolled many of the Chinook for the purposes of distributing the monies appropriated. The fact of their enrollment plainly demonstrates their identification as a discrete group.

The second Congressional statute came about because there was a perceived feeling “that some of these tribes, at least, may be entitled to further payments under the positive contracts made in the treaties with the Government. * * * The [House] Committee [on Indian Affairs] feel[s] that they have been very shabbily treated by the Government, and that they should have an opportunity to have their equities properly presented to the Court of Claims.” Accordingly, the Act of February 12, 1925, ch. 214, 43 Stat. 886, authorized “that all claims of whatever nature, both legal and equitable, which the Muckelshoot, San Juan Islands Indians; Nook-Sack, Suattle, Chinook, Upper Chehalis, Lower Chehalis, and Humptulip Tribes or Bands of Indians, or any of them (with whom no treaty has been made), may have against the United States shall be submitted to the Court of Claims, with right of appeal by either party to the Supreme Court of the United States for determination and adjudication, both legal and equitable, and jurisdiction is hereby conferred upon the Court of Claims to hear and determine any and all suits brought hereunder and to render final judgment therein * * *.”

These two statutes clearly denominate the Lower Band of Chinook Indians, or Chinook Tribe, as one identified by Congress and the Interior Department. The first one appropriates a sum which had been promised to be paid in the 1851 Point Tansey Treaty, and the second statute vests jurisdiction in the Court of Claims to hear and determine legal and equitable claims arising out of the unratified treaty. Both were passed with a specific object in mind, but both explicitly recognized the Lower Band of the Chinook Tribe as such, both as, respectively, the recipient for the appropriated monies and the party plaintiff in whose favor the United States explicitly waived its sovereign immunity in a case before the Court of Claims.

These same statutes from the basis for the AS-IA's finding of prior federal acknowledgment. The regulations and guidelines define the various forms of previous federal recognition and set out a number of examples, but expressly do not limit recognition to them: negotiating or signing a treaty with the federal government; the federal government declaring war on or removing a tribe; placement on a reservation by the federal government; being denominated a tribe by Congressional action or Executive Order; and having collective rights in tribal lands or funds administered by the federal government. 25 CFR 83.8(c). Here, the 1911 and 1912 Acts strongly suggest federal acknowledgment, but need not be relied upon, because the 1925 Act is an unambiguous federal acknowledgment. The Act refers to “all claims * * * which the * * * Chinook [and other] Tribes or Bands of Indians may have” [emphasis added]. By referring to the Tribe in the present tense, Congress expressly acknowledged the existence of the ancestors of the CIT/CN as a tribe.

In this case the explicit statutory recognition is not just probative of the existence of a tribe; it establishes that a tribe has a relationship with the federal government. There is a major consequence flowing from the express statutory recognition. Congress has never enacted a withdrawal of recognition, and the Department is loathe to infer such a withdrawal. Indeed, once recognized, a tribe may lose its federal recognition only by Act of Congress or by the voluntary abandonment of its tribal relations. And while we will not presume continuity of tribal relations, neither should we presume abandonment of tribal relations. Given that the petitioner existed as a distinct community through 1950, that it was sufficiently organized politically to pursue claims before the Indian Claims Commission throughout the 1950s, that it has pursued this acknowledgment process since 1979, and that the genealogical review shows the petitioner to consist primarily of descendants of the 1851 and 1855 treaty tribe and the tribes mentioned in the 1911 and 1925 legislation, the AS-IA finds that criterion (a) is met on a substantially continuous basis from 1911 to the present.

The criterion of substantially continuous identification as Indian from historical times, in 25 CFR 83.7(a), is thus satisfied, because the statutes have never been repealed, amended or otherwise modified. In addition, the CIT/CN by virtue of their direct descent from, continuing relationship to, and regular interaction with the prior acknowledged Chinook satisfy, as a whole, criterion (a).

Criterion (b)

The PF for the CIT/CN petitioner concluded that the petitioner meets criterion 83.7(b) from 1811 to 1854, based on the continuing existence of distinct Chinook Indian villages. Using a combination of evidence to show people lived in village-like settings and maintained distinct cultural patterns, it also concluded that, from 1854 to about 1920, there was evidence that a community of Chinook Indians who had intermarried with Chehalis Indians and whites, lived along the shores of Willapa Bay, particularly in the town of Bay Center and on Shoalwater Bay Indian Reservation. This Bay Center community met the requirements for community found in criterion (b) under the regulations; however, this community did not incorporate the entire Chinook population claimed as ancestors by the petitioner. Significant portions of the petitioner's ancestors lived in other communities along the Columbia River, 25 to 45 miles to the south and southeast of Bay Center. The PF found little or no evidence that the Chinook people living on the Columbia River and those in or near Bay Center formed a community under the regulations.

Data from the 1880 federal census was used to demonstrate that many Chinook descendants, including those who were permanent residents in Bay Center, were fishing side by side in Chinookville, a village which was almost exclusively inhabited by Chinook Indians. The year 1880 was the last year for which there was sufficient evidence demonstrating that CIT/CN, as a whole, met the requirements of criterion 83.7(b).

CIT/CN submitted new evidence during the PF comment period to support a revised finding of continuous, significant social interaction between the Indians living in Bay Center and the Chinook descendants concentrated in Dahlia or Ilwaco on the Columbia River to the south to 1950. Evidence submitted by CIT/CN in response to the PF supports continuous significant social interaction between the Indians living in Bay Center and the Chinook descendants concentrated in Dahlia or Ilwaco between 1880 and 1950. However, there is more limited evidence from 1950 to the present to show that the petitioner, as a whole, met criterion 83.7(b). The AS-IA finds that the evidence is adequate that the Bay Center community satisfies criterion (b) to the present. While this does not encompass the whole of the petitioner, the willingness of the Bay Center community to join with others to pursue the ICC claims and this petition process also tends to demonstrate the existence of a community. To recognize only the Bay Center community would be unproductive, since that group, once federally recognized, could simply enact membership criteria that would make the others eligible for membership. Additionally, the work of Clifford Trafzer supports a finding of community up to 1990. See Trafzer, The Chinook (1990), and Exhibit T. Therefore, by a combination of evidence and taking account of the limitations inherent in demonstrating the historical existence of community, the evidence which is available is sufficient to show that CIT/CN, as a whole, meets criterion 83.7(b).

Alternatively, the AS-IA finds that CIT/CN meets criterion (b) as a result of its prior federal recognition in the 1925 Act. As noted above, we will not presume an abandonment of tribal relations once the tribe is recognized. While the record is not conclusive, there is no affirmative indication of abandonment, and the voluntary pursuit of the ICC claim and this petition argue against any such abandonment. Thus, the evidence is adequate to find that CIT/CN meets criterion (b).

Criterion (c)

The continuity of political influence in section 83.7(c) is met by the polity manifested through the organizations formed to pursue claims under the 1925 statute and the Indian Claims Commission Act of 1946. These organizations were formed to pursue tribal claims, not individual ones, and required descent from the historic Lower Chinook Tribe as a basis for membership. Their purpose was not just to aid litigation or pursue claims, but encompassed other matters, relating to the welfare and community standing of the Chinook as a whole, for example, health matters, fishery issues and the recovery of human remains and artifacts. These claim organizations were effectually transitional governing bodies and, from the 1920s until the 1950s, were evolving into bodies exercising modern political authority and influence. For this reason, they must be accorded status of organizations wielding political authority and meeting the requirement of political influence or other authority in 25 CFR 83.7(c).

The evidence is undisputed that the focus of the political activity has been the claims, both under the 1925 statute and the Indian Claims Commission Act of 1946. A claims organization has existed since the 1920s. From 1953 onwards, there were two competing Chinook authorities, centered around the claims, and there were also other political activities. At this time a constitution and by-laws were enacted and tribal councillors were later elected. Since informal political organization has been allowed to meet the political influence criterion, and because the claims endeavors were made on behalf of one tribal entity, not individuals, this level or organization meets the requirement of continuing political influence. The present CIT/CN, an amalgamation of the two entities which split in 1953, has a constitution and conducts regular meetings.

Therefore, taking into consideration the limitations inherent in demonstrating political influence or authority on a substantially continuous basis, and realizing that fluctuations in tribal activity occur at different points in time, the combination of evidence demonstrated is sufficient to show that CIT/CN, as a whole, meets criterion 83.7(c).

Criterion (d)

The petitioner submitted a certified copy of a constitution dated June 16, 1984, which described the territory of the petitioner, the membership criteria, election of officers, the duties of the officers, and general membership meetings. The petitioner also submitted copies of 1953 Articles of Incorporation and a 1953 constitution of the Chinook Indian Tribes, Inc., a 1954 constitution of the Chinook Nation, and a 1980 constitution as evidence of previous governing documents.

Section 1 of the 1984 constitution states that the petitioner's membership shall consist of persons who submit satisfactory evidence that they descend from the Chinookan bands or Clatsop tribe that existed at the time of the 1851 treaties. Section 2 of the membership provision states that the CIT council will adopt an ordinance for establishing procedures and proof for enrollment.

The petitioner also submitted a membership ordinance dated June 20, 1987, which “replaces Section 2 of the 1984 constitution.” The membership ordinance states that the membership shall consist of descendants of the Cathlamet, Wahkiakum, Willapa, and Lower Band of Chinook Indians and the Clatsop Tribe of Indians who were living at the time of the 1851 treaties who are on the August 1, 1987, membership list, and their descendants. “New members” applying after August 1, 1987, must document their descent from persons listed on the 1919 Roblin Schedule of Unenrolled Indians, the 1906 and 1913 McChesney rolls of the Indians living at the time of the 1851 treaties or their heirs, or the 1914 annuity payment roll and have ¼ Indian blood from the specified Chinook bands. The term “new members” in the ordinance presumably applies to new family lines not previously represented on the 1987 list.

The 1984 constitution provides also for the adoption of individuals into the tribe under the categories of “verified tribal affiliation (by tribe and/or BIA)” or “unverified tribal affiliation.” The provision states that the enrollment committee makes a recommendation for adoption to the tribal council which then brings the recommendation before the general assembly. The status and rights of adopted members are not stated.

Therefore, the petitioner meets criterion 83.7(d).

Criterion (e)

The petitioner provided lists dated 1953, 1981, 1983, 1987, 1994, and 1995, which it considered its membership lists. The July 8, 1995, membership list was certified by the petitioner's council as being accurate and complete. There were 1,622 names on the list, including 56 names of deceased members, for a total of 1,566 living members.

Approximately 15 percent of CIT/CN members have not submitted evidence consistent with the petitioner's own constitution or acceptable to the Secretary of the Interior to prove their Chinook descent. These members descend from Rose LaFramboise, a métis woman for whom there is conflicting information regarding her parentage. The petitioner's claim for Chinook ancestry for Rose LaFramboise shows her as the descendant of Amable Petit and Susanne Tawakon, of the Lower Band of Chinook. However, the petitioner also sent undocumented ancestry charts that show Rose as the daughter of non-Chinook parents: a French Canadian Hudson's Bay company employee and his Cayuse/Sioux métis wife, Francois LaFramboise and Denise Dorion. The petitioner did not provide primary documentation to support either claim.

In order to determine which was the correct line of descent, the BIA researched such primary documentation as published Catholic Church records, federal censuses, and BIA records for the claims distributions in the Western Oregon Judgment Fund 1955-1959. None of these records confirmed that Rose was the descendant of Susanne Tawakon. Instead, BIA analysis of the available records concluded that Rose was most likely to be the daughter of Francois and Denise Dorion LaFramboise who were not Chinook.

If Rose LaFramboise was not of direct Chinook descent, she was certainly the sister-in-law to Sophie Durival LaFramboise and to Edwin Scarborough, who were members of well-known Chinook families. Rose had “connections” (brother's in-laws) with the Chinook at Dahlia. Rose LaFramboise, her children and grandchildren, resided at Cathlamet with other Chinook descendants from 1870 through the 1920s. Like other Chinook descendants in the area, Rose was identified as “Indian,” “Indian-Mixed,” and “½ Indian” on the census records. Rose LaFramboise's descendants, like their Chinook neighbors, married out of the Chinookan population. Her descendants are on the 1953 membership applicants list submitted by the Chinook Tribes, Inc., the 1987 CIT membership list, and later CIT lists. These connections and associations with other Chinook and identifications in the census records indicate that Rose LaFrambois was considered by others (family and neighbors) to be one of the Chinook. While Rose LaFramboise may not have been Chinook by blood, she appears to have been accepted as a member of the Chinook community in which she lived. This comports with the long-standing definitions of “Indian” and “tribal member” (Solicitor's Memorandum 1/16/1958.)

However logical it may be to conclude that Rose LaFramboise was considered in her own life time to be Chinook, from the evidence currently available, Rose LaFramboise descendants do not meet the group's own membership criteria as defined in its enrollment ordinance. If the petitioner provides new evidence which proves Rose's descent from the historical tribe, this will not be a problem. However, if no such evidence is available, there may be problems enrolling LaFramboise descendants for services. The CIT may wish to resolve the LaFramboise membership question by providing documentation acceptable to the Secretary of the Interior which proves Chinook descent, by exercising the adoption policy, or by resolving the conflict between the enrollment ordinance and the group's actual practices.

At present, there is evidence that approximately 85 percent of the 1995 membership descends from either the Wahkiakum, Willapa, Kathlamet, or Lower Band of Chinook or the Clatsop tribe of Indians who were treated by the federal government in 1851. The other 15 percent of the membership descends from Rose LaFramboise, who by birth, adoption, or the customs of the day, appears to have been considered as part of the Chinook. Approximately 82 percent of the CIT membership descends from the Lower Band of Chinook. Some descendants of the other bands married into the Lower Band, creating multiple lines of Chinook and Clatsop descent for most of the CIT membership. Therefore, the group, as a whole, meets criterion 83.7(e).

Criterion (f)

The petitioner's constitution does not address the issue of dual enrollment in federally acknowledged tribes. However, the petitioner provided a list of 50 names of persons who were dually enrolled in 1981 and a list of 68 persons who were dually enrolled in 1987. The BIA compared the 1995 CIT membership list to a 1992 Olympic Peninsula Agency record which listed the names of persons enrolled with various Washington and Oregon tribes and found 82 CIT members were enrolled with Quinault Nation of the Quinault Reservation, Washington. Although 5 percent of the petitioner's members are also enrolled in the Quinault tribe, the petitioner is principally composed of persons who are not members of any federally acknowledged North American Indian tribe.

Therefore, the petitioner meets criterion 83.7(f).

Criterion (g)

Congress passed an act in 1954 to terminate the federal trust relationship to the “tribes, bands, groups, or communities of Indians located west of the Cascade Mountains in Oregon,” and specifically stated that the act applied to the “Chinook,” “Clatsop,” and “Kathlamet.” Termination legislation to apply to the Indians of western Washington State, although considered, was not enacted by Congress. The western Oregon termination act clearly stated that it applied not only to tribes or bands of Indians, but also to their “individual members” (68 Stat. 724). Because the act listed the historical tribes of western Oregon, not just the tribes which were currently recognized by the federal government, the act not only terminated any existing federal relationships, but also prohibited the establishment of a federal relationship with any of those historical tribes.

The Lower Band of Chinook was always identified as a historical tribe or band north of the Columbia River in modern Washington State. As described by the unratified treaty of 1851, its territory lay exclusively in the state of Washington. Because the 1954 western Oregon termination act was applicable only to tribes, bands, or groups of Indians located in the state of Oregon, that act's reference to the “Chinook” did not refer to the historical Lower Band of Chinook of Washington State, or to its descendants. Therefore, the act did not prohibit a federal relationship with the Lower Band of Chinook.

The Clatsop Tribe, however, was always identified as a historical tribe or band south of the Columbia River in the modern state of Oregon. The unratified treaty of 1851 placed its territory exclusively in the state of Oregon. Therefore, a federal relationship with the Clatsop Tribe was prohibited by the western Oregon termination act of 1954. In addition, that act clearly stated that its intent was to prohibit federal services to the individual members of such a tribe. Therefore, those members of the petitioning group whose Indian descent is exclusively from the historical Clatsop Tribe cannot receive federal services because of their status as Indians. This prohibition does not apply to the members of the petitioning group who have mixed Chinook and Clatsop ancestry. It affects only about 3 percent of the petitioner's current members.

The historical Kathlamet Band of Chinook Indians had villages on the Oregon shore of the Columbia River. The 1851 unratified treaty considered Kathlamet territory to be completely within the modern state of Oregon. Some scholars believe, however, that about 1810 the Kathlamet moved north of the Columbia to live near, or among, the Waukiakum Band of Chinook Indians. As a result, members of the petitioner who have Kathlamet ancestry also have Waukiakum or Lower Band ancestry, although there is some limited evidence that 2 percent of the petitioner's members, some of the descendants of Elizabeth Klowsum Springer, may have only Kathlamet Band ancestry. The members of the petitioning group with Kathlamet ancestry, however, descend from Indians who have long been associated with individuals of Waukiakum and Chinook ancestry north of the Columbia River in Washington State. Therefore, the western Oregon termination act of 1954 does not apply to the petitioner's members with Kathlamet ancestry.

Because the petitioner claims to be the successor to the Lower Band of Chinook of Washington State, and because a large majority of its members trace their Indian ancestry to that historical tribe or band, the petitioner, as an entity, is not the subject of congressional legislation which has expressly terminated or forbidden the federal relationship. Thus, with the reservation that a few of the petitioner's current members who trace their ancestry only to the historical Clatsop Tribe would be forbidden federal services as Indians, the petitioner meets criterion 83.7(g).

This determination is final and will become effective 90 days from the date of publication, unless a request for reconsideration is filed pursuant to Section 83.11. The petitioner or any interested party may file a request for reconsideration of this determination with the Interior Board of Indian Appeals (Sec. 83.11(a)(1)). The petitioner's or interested party's request must be received no later than 90 days after publication of the Assistant Secretary's determination in the Federal Register (Sec. 83.11(a)(2)).

Dated: January 3, 2001.
Kevin Gover,
Assistant Secretary-Indian Affairs.

[FR Doc. 01-609 Filed 1-8-01; 8:45 am]

BILLING CODE 4310-02-U